DEPARTMENT OF THE INTERIOR

Bureau of Land Management

[WY-060-1320-EL; WYW150318]

Notice of Availability of the Record of Decision for the South Powder River Basin Coal Final Environmental Impact Statement, Little Thunder Lease by Application Tract, Wyoming

AGENCY: Bureau of Land Management, Interior.

ACTION: Notice of Availability.

SUMMARY: In accordance with the National Environmental Policy Act of 1969, the Bureau of Land Management (BLM) announces the availability of the Record of Decision (ROD) for South Powder River Basin Coal Final Environmental Impact Statement (FEIS); Little Thunder Lease by Application Tract.

ADDRESSES: The document will be available electronically on the following Web site: http://www.wy.blm.gov/. Copies of the ROD are available for public inspection at the following BLM office locations:

• Bureau of Land Management, Wyoming State Office, 5353 Yellowstone Road, Cheyenne, Wyoming 82009.

• Bureau of Land Management, Casper Field Office, 2987 Prospector Drive, Casper, Wyoming 82604.

FOR FURTHER INFORMATION CONTACT: Mr. Bob Janssen, Wyoming Coal Coordinator, at (307) 775-6206 or Ms. Julie Weaver, Land Law Examiner, at (307) 775-6260. Both Mr. Janssen's and Ms. Weaver's offices are located at the BLM Wyoming State Office, 5353 Yellowstone Road, Cheyenne, Wyoming 82009.

SUPPLEMENTARY INFORMATION: As stated in the FEIS, a ROD will be issued for each of the five Federal coal tracts considered for leasing in the South Powder River Coal FEIS. The ROD covered by this Notice of Availability is for coal tract Little Thunder (WYW150318) and addresses leasing an estimated 695.3 million tons of in-place Federal coal administered by the BLM Casper Field Office underlying approximately 5,083.50 acres in Campbell County, Wyoming. This tract includes 1,100.7 acres of Thunder Basin National Grasslands.

Because the Assistant Secretary of the Interior, Lands and Minerals Management has concurred in this decision, it is not subject to appeal to the Interior Board of Land Appeals, as provided in 43 CFR part 4. This decision is the final action of the Department of the Interior.

Robert A. Bennett,
State Director.

[FR Doc. 04-18847 Filed 8-13-04; 8:45 am]

BILLING CODE 4310-22-M